DEPARTMENT OF THE TREASURY

Agency Information Collection Activities; Submission for OMB Review; Comment Request; Multiple Internal Revenue Service (IRS) Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before June 26, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Application to Adopt, Change, or Retain a Tax Year.

OMB Number: 1545-0134.

Form Number: 1128.

Abstract: Section 442 of the Internal Revenue Code requires that a change in a taxpayer's annual accounting period be approved by the Secretary. Under regulation section 1.442-1(b), a taxpayer must file Form 1128 to secure prior approval unless the taxpayer can automatically make the change. The IRS uses the information on the form to determine whether the application should be approved.

Current Actions: There are no changes being made to the form at this time.

Type of Review: Extension of a currently approved collection.

Affected Public: Business or other for-profit organizations, Individuals, Not-for-profit institutions, and Farms.

Estimated Number of Respondents: 9,788.

Estimated Time per Respondent: 23 hours, 43 minutes.

Estimated Total Annual Burden Hours: 232,066.

2. Title: Application for Extension of Time to File a Return and/or Pay U.S. Estate (and Generation-Skipping Transfer) Taxes.

OMB Number: 1545-0181.

Form Number: Form 4768.

Abstract Form 4768 is used to request an extension of time to file an estate (and generation-skipping) tax return and/or to pay the estate (and generation-skipping) taxes and to explain why the extension should be granted. IRS uses the information to decide whether the extension should be granted.

Current Actions: There is no change in the burden previously approved by OMB.

Type of Review: Extension of a currently approved collection.

Affected Public: Individuals and business or other for-profit organizations.

Estimated Number of Responses: 18,500.

Estimated Time per Respondent: 1 Hours 30 minutes.

Estimated Total Annual Burden Hours: 27,565.

3. Title: Information Returns with Respect to Energy Grants and Financing.

OMB Number: 1545-0232.

Form Number: 6497.

Abstract: Section 6050D of the Internal Code requires an information return to be made by any person who administers a Federal, state, or local program providing nontaxable grants or subsidized energy financing. Form 6497 is used for making the information return. The IRS uses the information from the form to ensure that recipients have not claimed tax credits or other benefits with respect to the grants or subsidized financing.

Current Actions: There are no changes to the burden.

Type of Review: Extension of a currently approved collection.

Affected Public: Businesses and other for-profit organizations, and not-for-profit institutions.

Estimated Number of Respondents: 250.

Estimated Time per Respondent: 3 hours, 14 minutes.

Estimated Total Annual Burden Hours: 810 hours.

4. Title: Gas Guzzler Tax.

OMB Number: 1545-0242.

Form Number: Form 6197.

Abstract: The gas guzzler tax is imposed on the sale, use, or lease by the manufacturer or importer of an automobile of a model type that does not meet certain standards for fuel economy. Automobiles imported for business or personal use are subject to tax. Taxpayers use Form 6197 to compute the gas guzzler tax and report the tax on their quarterly Form 720 tax return. Taxpayers who are not required to file Form 720 quarterly and do not import gas guzzling automobiles in the normal course of their trade or business may be eligible to make a on-time filing of Form 6197 and Form 720. The IRS uses the information to verify computation of the tax and compliance with the law.

Current Actions: There is no change to the existing collection.

Type of Review: Extension of a currently approved collection.

Affected Public: Individuals or households, and business or other for-profit organizations.

Estimated Number of Responses: 385.

Estimated Time per Respondent: 7 hours, 42 minutes.

Estimated Total Annual Burden Hours: 2,968.

5. Title: Exemption From Withholding on Compensation for Independent (and Certain Dependent) Personal Services of a Nonresident Alien Individual.

OMB Number: 1545-0795.

Form Number: Form 8233.

Abstract: Compensation paid to a nonresident alien individual in the United States for independent personal services (self-employment) or certain dependent personal services (employee) is generally subject to 30% withholding or graduated rates. However, compensation may be exempt from withholding because of a tax treaty. Form 8233 is used to request exemption from withholding.

Current Actions: There is no change to the existing collection.

Type of Review: Extension of a currently approved collection.

Affected Public: Individuals or households, and Private Sector.

Estimated Number of Responses: 28,650.

Estimated Time per Respondent: 8 hours, 57 minutes.

Estimated Total Annual Burden Hours: 256,418.

6. Title: Return for Nuclear Decommissioning Funds and Certain Related Persons.

OMB Number: 1545-0954.

Form Number: 1120-ND.

Abstract: Form 1120-ND is filed by utilities that have nuclear power plants. These utilities set up funds to provide cash to decommission the nuclear power plant. Form 1120-ND is used to determine the tax liability and income tax that the fund must pay.

Current Actions: There are no changes to the paperwork burden previously approved by OMB.

Type of Review: Extension of a currently approved collection.

Affected Public: Businesses and other for-profit organizations.

Estimated Number of Respondents: 100.

Estimated Time per Respondent: 32 hours, 35 minutes.

Estimated Total Annual Burden Hours: 3,259.

7. Title: Request Relating to Return of Excise Tax on Undistributed Income of Real Estate Investment Trusts.

OMB Number: 1545-1013.

Form Number: 8612.

Abstract: Form 8612 is used by real estate investment trusts to compute and pay the excise tax on undistributed income imposed under section 4981 of the Internal Revenue Code. The IRS uses the information to verify that the correct amount of tax has been reported.

Current Actions: There are no changes to burden.

Type of Review: Extension of a currently approved collection.

Affected Public: Business or other for-profit organizations.

Estimated Number of Respondents: 20.

Estimated Time per Respondent: 9 hours, 48 minutes.

Estimated Total Annual Burden Hours: 196 hours.

8. Title: Annual Certification of a Residential Rental Project.

OMB Number: 1545-1038.

Form Number: 8703.

Abstract: Form 8703 is used by the operator of a residential rental project to provide annual information that the IRS will use to determine whether a project continues to be a qualified residential rental project under Internal Revenue Code section 142(d). If so, and certain other requirements are met, bonds issued in connection with the project are considered “exempt facility bonds” and the interest paid on them is not taxable to the recipient.

Current Actions: There are no changes in the paperwork burden previously approved by OMB.

Type of Review: Extension of a currently approved collection.

Affected Public: Business or other for-profit organizations.

Estimated Number of Respondents: 6,000.

Estimated Time per Respondent: 12 hours, 47 minutes.

Estimated Total Annual Burden Hours: 76,620.

9. Title: U.S. Estate Tax Return for Qualified Domestic Trusts.

OMB Number: 1545-1212.

Form Number: 706 QDT.

Abstract: Form 706-QDT is used by the trustee or the designated filer to compute and report the Federal estate tax imposed on qualified domestic trusts by Internal Revenue Code section 2056A. The IRS uses the information to enforce this tax and to verify that the tax has been properly computed.

Current Actions: There are no changes being made to the form at this time.

Type of Review: Extension of a currently approved collection.

Affected Public: Individuals or households, and business or other for-profit organizations.

Estimated Number of Respondents: 474.

Estimated Time per Respondent: 4 hours, 28 minutes.

Estimated Total Annual Burden Hours: 2,114 hours.

10. Title: Proceeds of Bonds Used for Reimbursement.

OMB Number: 1545-1226.

Form Number: T.D. 8394.

Abstract: This regulation clarifies when the allocation of bond proceeds to reimburse expenditures previously made by an issuer of the bond is treated as an expenditure of the bond proceeds. The issuer must express a reasonable official intent, on or prior to the date of payment, to reimburse the expenditure in order to assure that the reimbursement is not a device to evade requirements imposed by the Internal Revenue Code with respect to tax exempt bonds.

Current Actions: There is no change to this existing regulation.

Type of Review: Extension of a currently approved collection.

Affected Public: State, local or tribal governments, and not-for-profit institutions.

Estimated Number of Respondents: 2,500.

Estimated Time per Respondent: 2 hours, 24 minutes.

Estimated Total Annual Burden Hours: 6,000.

11. Title: Gasohol; Compressed Natural Gas; and Gasoline Excise Tax.

OMB Number: 1545-1270.

Form Number: PS-66-93 (TD 8609) and PS-120-90 (TD 8241).

Abstract: TD 8609: This regulation relates to gasohol blending and the tax on compressed natural gas (CNG). The sections relating to gasohol blending affect certain blenders, enterers, refiners, and through putters. The sections relating to CMG affect persons that sell or buy CNG for use as a fuel in a motor vehicle or motorboat. TD 8421: This regulation relates to the federal excise tax on gasoline. It affects refiners, importers, and distributors of gasoline and provides guidance relating to taxable transactions, persons liable for tax, gasoline blendstocks, and gasohol.

Current Actions: The IRS is removing the burden associated with section 48.4081-6(c)(1)(ii). See Public Law 108-357, Title III, § 301(c)(7), Oct. 22, 2004, 118 Stat. 1461. There are no other changes in the paperwork burden previously approved by OMB; IRS is making this submission to renew the OMB approval.

Type of Review: Revision of a currently approved collection.

Affected Public: Business or other for-profit organizations, Not-for-profit institutions, Farms and State, Local or Tribal Governments.

Estimated Number of Respondents: 2,210.

Estimated Time per Respondent: 9 minutes.

Estimated Total Annual Burden Hours: 246.

12. Title: Tuition Statement.

OMB Number: 1545-1574.

Form Number: Form 1098-T.

Abstract: Section 6050S of the Internal Revenue Code quires eligible education institutions to report certain information to the IRS and to students. Form 1098-T has been developed to meet this requirement.

Current Actions: There are no changes being made to the form at this time that would affect burden.

Type of Review: Extension of a currently approved collection.

Affected Public: Business or other for-profit organizations, and not-for-profit institutions.

Estimated Number of Respondents: 24,239,614.

Estimated Time per Respondent: 13 minutes.

Estimated Total Annual Burden Hours: 5,575,112 hours.

13. Title: Information reporting requirements in section 6045(e).

OMB Number: 1545-1592.

Regulation Project Number: Rev. Proc. 2007-12.

Abstract: This revenue procedure sets forth the acceptable form of the written assurances (certification) that a real estate reporting person must obtain from the seller of a principal residence to except such sale or exchange from the information reporting requirements for real estate transactions under section 6045(e)(5) of the Internal Revenue Code.

Current Actions: There is no change to the burden previously approved by OMB.

Type of Review: Extension of a currently approved collection.

Affected Public: Individuals or households, and business or other for-profit organizations.

Estimated Number of Respondents: 2,300,000.

Estimated Time per Respondent: 11 minutes.

Estimated Total Annual Burden Hours: 420,500.

14. Title: Handbook for Authorized IRS e-file Providers.

OMB Number: 1545-1708.

Form Number: Publication 1345.

Abstract: Publication 1345 informs those who participate in the IRS e-file Program for Individual Income Tax Returns of their obligations to the Internal Revenue Service, taxpayers, and other participants.

Current Actions: There are no changes to burden.

Type of Review: Extension of a currently approved collection.

Affected Public: Business or other for-profit organizations.

Estimated Number of Respondents: 200,000.

Estimated Number of Responses: 129,655,713.

Estimated Time per Response: 3 minutes.

Estimated Total Annual Burden Hours: 6,023,762.

15. Title: Extraterritorial Income Exclusion.

OMB Number: 1545-1722.

Form Number: 8873.

Abstract: The FSC and Extraterritorial Income Exclusion Act of 2000 added section 114 to the Internal Revenue Code. Section 114 provides for an exclusion from gross income for certain transactions occurring after September 30, 2000, with respect to foreign trading gross receipts. Form 8873 is used to compute the amount of extraterritorial income excluded from gross income for the tax year.

Current Actions: There are no changes to the form or burden.

Type of Review: Extension of a currently approved collection.

Affected Public: Business or other for-profit organizations.

Estimated Number of Respondents: 100.

Estimated Time per Respondent: 25 hours, 27 minutes.

Estimated Total Annual Burden Hours: 2,545 hours.

16. Title: Electronic Payee Statements.

OMB Number: 1545-1729.

Form Number: TD 9114.

Abstract: This collect contains final regulations, TD 9114 (published February 18, 2004 [69 FR 7567]), relating to the voluntary electronic furnishing of statements on Forms W-2, “Wage and Tax Statement,” under sections 6041 and 6051, and statements on Forms 1098-T, “Tuition Statement,” and Forms 1098-E, “Student Loan Interest Statement,” under section 6050S. These final regulations affect businesses, other for-profit institutions, and eligible educational institutions that wish to furnish these required statements electronically. The regulations will also affect individuals (recipients), principally employees, students, and borrowers, who consent to receive these statements electronically.

Current Actions: There is no change to the burden previously approved by OMB. This form is being submitted for renewal purposes only.

Type of Review: Extension of a currently approved collection.

Affected Public: Business or other for-profit organizations.

Estimated Number of Respondents: 15,200.

Estimated Time per Respondent: 6 mins.

Estimated Total Annual Burden Hours: 2,844,950.

17. Title: Carrier Summary Report, Terminal Operator Report, and Request for Extension of Time to File an ExSTARS Information Return.

OMB Number: 1545-1733.

Form Numbers: Forms 720-CS, 720-TO, and 8809-EX.

Abstract: Representatives of the motor fuel industry, state governments, and the Federal government are working to ensure compliance with excise taxes on motor fuels. This joint effort has resulted in a system to track the movement of all products to and from terminals. Form 720-CS is an information return used by bulk transport carriers to report monthly receipts and disbursements of all liquid products at a storage location designated by a facility control number (FCN). Form 720-TO is completed by terminal operators to report monthly receipts and disbursements of all liquid products to and from all approved terminals. Form 8809-EX is used to request a 30-day extension of time to file an Excise Summary Terminal Activity Reporting System (ExSTARS) information report (Form 720-CS or Form 720-TO).

Current Actions: There is no change to the existing collection.

Type of Review: Extension of a currently approved collection.

Affected Public: Business or other for-profit organizations.

Estimated Number of Responses: 544,380.

Estimated Time per Respondent: 4 hours, 39 minutes.

Estimated Total Annual Burden Hours: 2,530,383.

18. Title: Average Area Purchase Price Safe Harbors and Nationwide Purchase Prices under section 143.

OMB Number: 1545-1877.

Form Number: Revenue Procedure 2022-17.

Abstract: The revenue procedure under this collection provides issuers of qualified mortgage bonds, as defined in section 143(a) of the Internal Revenue Code (Code), and issuers of mortgage credit certificates, as defined in section 25(c), with (1) the nationwide average purchase price for residences located in the United States, and (2) average area purchase price safe harbors for residences located in statistical areas in each state, the District of Columbia, Puerto Rico, the Northern Mariana Islands, American Samoa, the Virgin Islands, and Guam.

Current Actions: There are no changes to burden.

Type of Review: Extension of a currently approved collection.

Affected Public: State, Local, and Tribal Governments.

Estimated Number of Respondents: 60.

Estimated Time per Respondent: 15 minutes.

Estimated Total Annual Burden Hours: 15 hours.

19. Title: Revenue Procedure 2011-34 Rules for Certain Rental Real Estate Activities.

OMB Number: 1545-2194.

Abstract: This revenue procedure grants relief under Section 1.469-9(g) for certain taxpayers to make late elections to treat all interests in rental real estate as a single rental real estate activity.

Current Actions: There is no change in the paperwork burden previously approved by OMB. This form is being submitted for renewal purposes only.

Type of Review: Extension of a currently approved collection.

Affected Public: Individuals or Households.

Estimated Number of Respondents: 2,000.

Estimated Time per Response: 30 mins.

Estimated Total Annual Burden Hours: 1,000.

20. Title: IRS Taxpayer Burden Surveys.

OMB Number: 1545-2212.

Form Number: N/A.

Abstract: Each year, individual taxpayers in the United States submit more than 140 million tax returns to the Internal Revenue Service (IRS). The IRS uses the information in these returns, recorded on roughly one hundred distinct forms and supporting schedules, to administer a tax system whose rules span thousands of pages. Managing such a complex and broad-based tax system is costly but represents only a fraction of the total burden of the tax system. Equally, if not more burdensome, is the time and out-of-pocket expenses that taxpayers spend in order to comply with tax laws and regulations.

Changes in tax regulations, tax administration, tax preparation methods, and taxpayer behavior continue to alter the amount and distribution of taxpayer burden. Data from updated surveys will better reflect the current tax rules and regulations, the increased usage of tax preparation software, increased efficiency of such software, changes in tax preparation regulations, the increased use of electronic filing, the behavioral response of taxpayers to the tax system, the changing use of services, both IRS and external, and related information collection needs.

Current Actions: The Taxpayer Burden Surveys allow RAAS to update and validate the IRS Taxpayer Burden Model which is used to provide estimates for consolidated taxpayer segments, such as OMB numbers 1545-0074, 1545-0123, and 1545-0047. This form is being submitted for revision purposes.

Data Collections and Burden Hours Covered Under This Clearance Request:

Table | Taxpayer segment | Responses | Burden hours period 1 6/1/2023-5/31/2024 | Burden hours period 2 6/1/2024-5/31/2025 | Burden hours period 3 6/1/2025-5/31/2026
1 | Individual Taxpayers | 64,575 | 4,232 | 4,234 | 4,234
2 | Business Entities | 42,375 | 2,610 | 5,220 | 870
3 | Tax-Exempt Organizations | 14,475 | 645 | 1,504 | 324
4 | Trusts and Estate Form 1041 Filers | 13,050 | 1,087 | 1,088 | 0
5 | Form 709 Gift Tax Return Filers | 7,500 | 1,088 | 362 | 0
6 | Form 706 Estate Tax Return Filers | 2,850 | 0 | 0 | 1,450
7 | Excise Tax Return Filers | 1,500 | 0 | 1,088 | 362
8 | Employers | 7,500 | 1,450 | 725 | 0
9 | Information Return Filers | 10,000 | 0 | 0 | 5,800
10 | Pension Plan Return Filers | 3,000 | 1,450 | 0 | 0
Total |  | 166,825 | 12,562 | 14,221 | 13,040

Type of Review: Revision of a currently approved collection.

Affected Public: Individual, Business or other for-profit organizations.

Estimated Total Number of Respondents: 140,658.

Estimated Time per Respondent: 17 min.

Estimated Total Burden Hours: 39,853.

21. Title: Reporting Abusive Tax Promotions or Preparers.

OMB Number: 1545-2219.

Form Numbers: 14242 and 14242(SP).

Abstract: Form 14242 and Form 14242(SP) are used to document the information necessary to report an abusive tax avoidance scheme. Form 14242(SP) is the Spanish version of Form 14242. Respondents can be individuals, businesses and tax return preparers.

Current Actions: There are no changes being made to the forms at this time.

Type of Review: Extension of a currently approved collection.

Affected Public: Individuals or Households, Farms, Businesses and other for-profit or not-for-profit organizations.

Estimated Number of Respondents: 460.

Estimated Time per Respondent: 10 minutes.

Estimated Total Annual Burden Hours: 77 hours.

Authority: 44 U.S.C. 3501 et seq.

Melody Braswell,
Treasury PRA Clearance Officer.

[FR Doc. 2023-11330 Filed 5-25-23; 8:45 am]

BILLING CODE 4830-01-P